DEPARTMENT OF LABOR

Employment and Training Administration

[TA-W-72,897]

Medquist, Inc., Norcross, GA; Notice of Termination of Investigation

Pursuant to Section 223 of the Trade Act of 1974, as amended, an investigation was initiated in response to a petition filed on November 19, 2009, by three workers on behalf of workers of MedQuist, Inc., Norcross, Georgia.

The petitioning group of workers is covered by an active certification, (TA-W-72,153) which expires on September 22, 2011. Consequently, further investigation in this case would serve no purpose, and the investigation has been terminated.

Signed in Washington, DC, this 28th day of January 2010.
Elliott S. Kushner,
Certifying Officer, Division of Trade Adjustment Assistance.

[FR Doc. 2010-5362 Filed 3-11-10; 8:45 am]

BILLING CODE 4510-FN-P